DEPARTMENT OF EDUCATION

[Docket No: ED-2012-OSERS-0037]

Request for Information on the Future Direction of the Rehabilitation Training Program

AGENCY: Office of Special Education and Rehabilitative Services, Department of Education.

ACTION: Request for information.

SUMMARY: The Department is requesting input to revitalize its training and technical assistance (TA) activities funded under the Rehabilitation Training Program. The Department will use the information and data gathered in response to this notice to support the design and implementation of future training and TA that is aligned with the current and future economic trends, reflects the needs of vocational rehabilitation (VR) consumers and ensures that VR counselors are equipped with new and emerging skills. The goal of these training and TA activities is to increase the achievement of high-quality integrated employment for individuals with disabilities.

DATES: We must receive your submission at or before January 7, 2013.

ADDRESSES: Submit your response to this RFI through the Federal eRulemaking Portal or via postal mail, commercial delivery, or hand delivery. We will not accept submissions by fax or by email. To ensure that we do not receive duplicate copies, please submit your comments only one time. In addition, please include the Docket ID and the term “Future Direction of the Rehabilitation Training Program” at the top of your comments.

Federal eRulemaking Portal: Go to www.regulations.gov to submit your comments electronically. Information on using Regulations.gov, including instructions for accessing agency documents, submitting comments, and viewing the docket, is available on the site under “How To Use This Site.”

Postal Mail, Commercial Delivery, or Hand Delivery: If you mail or deliver your comments, address them to Roseann Ashby, Office of Special Education and Rehabilitative Services, Attention: Future Direction of Rehabilitation Training Program, U.S. Department of Education, 400 Maryland Avenue SW., Potomac Center Plaza (PCP), Room 5055, Washington, DC 20202-2800.

Privacy Note: The Department's policy for comments received from members of the public (including comments submitted by mail, commercial delivery, or hand delivery) is to make these submissions available for public viewing in their entirety on the Federal eRulemaking Portal at: www.regulations.gov. Therefore, commenters should be careful to include in their comments only information that they wish to make publicly available on the Internet.

Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify in your submission any specific information that you consider confidential commercial information. Please list the information by page and paragraph numbers.

FOR FURTHER INFORMATION CONTACT: RoseAnn Ashby, U.S. Department of Education, 400 Maryland Avenue SW., PCP, Room 5055, Washington, DC 20202-2800. Telephone: (202) 245-7258.

If you use a telecommunications device for the deaf (TDD) or a text telephone (TTY), call the Federal Relay Service (FRS), toll free, at 1-800-877-8339.

SUPPLEMENTARY INFORMATION: The Rehabilitation Training Program is authorized by Title III of the Rehabilitation Act of 1973, as amended (Rehabilitation Act), and is administered by the Rehabilitation Services Administration (RSA) of the Office of Special Education and Rehabilitative Services.

Through this Request for Information (RFI), the Department is seeking input across four areas:

(1) The preparation of rehabilitation professionals through the Rehabilitation Long-Term Training Program.

(2) Methods for disseminating information to rehabilitation professionals, including grant-funded information, promising practices, and research.

(3) Mechanisms for providing TA and continuing education (CE) to VR professionals, State agencies, and other grantees.

(4) Use of the set-aside under section 21 of the Rehabilitation Act to (a) improve services to individuals with disabilities who are members of minority groups; and (b) conduct outreach and technical assistance to minority entities to promote their participation in activities funded under the Rehabilitation Act.

We are issuing this RFI solely for informational and planning purposes. This notice is not a request for proposals (RFP) or a promise to issue an RFP or a notice inviting applications (NIA). Further, the RFI does not commit the Department to contract for any supply or service. At this time, we are not seeking proposals and will not accept unsolicited proposals. We will not pay for any information or administrative costs a respondent may incur in responding to this RFI.

If you do not respond to this RFI, you may still apply for future contracts and grants. The Department posts RFPs on the Federal Business Opportunities Web site: www.fbo.gov. The Department announces grant competitions in the Federal Register at: www.gpo.gov/fdsys. It is your responsibility to monitor these sites to determine whether the Department issues an RFP or NIA after considering the information received in response to this RFI.

The documents and information submitted in response to this RFI become the property of the U.S. Government and will not be returned.

Context for Responses

The Department is interested in responses that contain data, specific examples, and other relevant documentation to support the Department in revitalizing its training and TA activities. The Department is not seeking letters of support in each of the four targeted areas. Rather, it is the Department's expectation that respondents will consider the questions RSA has developed in the context of their responses. A response to each question is not required.

The Department is seeking responses from a knowledgeable and diverse range of individuals including but not limited to the following—

(1) State VR agency staff, including directors, supervisors, and counselors;

(2) Current or former project directors or principal investigators of grants funded under the Rehabilitation Training Program;

(3) Recipients of TA and CE provided by a Technical Assistance and Continuing Education (TACE) Center;

(4) Users of materials posted on the Web site currently maintained by the National Clearinghouse of Rehabilitation Training Materials (NCRTM);

(5) Contributors of materials posted on the Web site currently maintained by NCRTM;

(6) Current and former scholars funded under the Rehabilitation Long-Term Training Program;

(7) Recipients of TA currently provided under grants funded by the set-aside under section 21 of the Rehabilitation Act; and

(8) Consumers.

I. Rehabilitation Long-Term Training Program

The Rehabilitation Long-Term Training Program supports academic training grants awarded to colleges and universities with undergraduate and graduate programs in the field of rehabilitation. Grantees must direct 75 percent of the funds they receive to trainee scholarships. The Rehabilitation Act requires trainees who receive assistance either (1) to work two years in public or private nonprofit rehabilitation or related agencies for every year of assistance, or (2) to pay back the assistance they received.

Grantees must build close relationships with State VR agencies, promote careers in VR, identify potential employers who would meet the trainees' payback requirements, and ensure that data on the employment of students are accurate.

The Department currently funds 153 grants under the long-term training program. These grants support bachelors', masters', and doctoral programs, as well as certificate programs. Some grants support more than one degree. The breakdown of the degree programs offered by the 153 grants follows:

Specialty area | Number of Grantees | Number of Cert. programs | Number of Bachelors' programs | Number of Masters' programs | Number of Doctoral programs
Rehabilitation Counseling (H129B) | 81 | 2 | 1 | 74 | 12
Rehabilitation Administration (H129C) | 1 | 1 | 0 | 0 | 0
Rehabilitation Technology (H129E) | 4 | 3 | 1 | 3 | 1
Vocational Evaluation (H129F) | 7 | 0 | 1 | 6 | 0
Rehabilitation of Individuals with Mental Illnesses (H129H) | 10 | 1 | 0 | 10 | 3
Rehabilitation Psychology (H129J) | 2 | 1 | 0 | 1 | 1
Undergraduate Education in Rehabilitation (H129L) | 5 | 0 | 5 | 0 | 0
Rehabilitation of Individuals Who Are Blind or Who Have Low Vision (H129P) | 15 | 9 | 1 | 14 | 0
Rehabilitation of Individuals Who Are Deaf or Hard of Hearing (H129Q) | 7 | 3 | 0 | 7 | 0
Job Placement and Job Development (H129R) | 9 | 2 | 0 | 7 | 0
Grants to Assist VR Agency Staff to Meet Comprehensive System of Personnel Development (CSPD) Requirements (H129W) | 11 | 5 | 0 | 11 | 0

Current data indicate that only about 80 percent of the individuals who are provided scholarships under these programs and who graduate with masters' degrees obtain employment that qualifies to repay their service obligation, and slightly fewer than 50 percent of these individuals obtain employment in State VR agencies.

The following questions examine the Department's pre-service programs that prepare rehabilitation professionals. Responses will assist the Department in designing funding priorities for grants funded under the Rehabilitation Long-Term Training Program that—

(1) Reflect current knowledge and skills needed by rehabilitation professionals;

(2) Effectively link the employment needs of individuals with disabilities with current workforce demands;

(3) Demonstrate cost-effective practices; and

(4) Address personnel shortages in the field of rehabilitation counseling.

1.1. In your State or local area, what are the current and projected employment opportunities in the field of rehabilitation counseling and related specialty areas, and what are the degree requirements for these employment opportunities (e.g., bachelor's, master's, or doctoral)?

1.2. What are your recommendations for adding new specialty areas to the list of eleven specialty areas the Department currently funds, eliminating some specialty areas, or combining two or more specialty areas?

1.3. Should the Department continue to fund bachelor's-level programs, and, if so, in what specialty areas?

1.4. Should the Department continue to fund doctoral programs, and, if so, in what specialty areas?

1.5. Currently, the Department supports certificate programs (e.g., a certificate in vocational evaluation and work adjustment, a certificate in rehabilitation counseling for the deaf, and a certificate in psychiatric vocational rehabilitation). What certificate programs, if any, should the Department fund? Should the Department support a stand-alone certificate program, or should the Department support a certificate program only when it is incorporated into a degree program?

1.6. How do rehabilitation counseling degree programs ensure that they are adequately preparing rehabilitation counselors to meet skill demands now and in the future?

1.7. How do universities ensure that programs to support employed State VR agency staff remain current and effective in meeting State VR agency's CSPD requirements?

1.8. In recent years a number of rehabilitation counseling programs have closed. What could the Department do to support the continuation of viable programs? For example, should the Department fund a model for training rehabilitation counselors that involves collaboration among several universities across one or more geographic areas?

1.9. How can the Department increase the percentage of students (a) who complete a rehabilitation counseling program, (b) who obtain qualifying employment after completing the program, and (c) who obtain employment in State VR agencies?

1.10. Currently the Department provides universities with grants of $150,000 annually for rehabilitation counseling programs and grants of $100,000 annually for the other specialty areas. At least 75 percent of these grant funds are to be used for scholarships. Are these funding levels appropriate?

1.11. Universities vary in the amount of scholarship funds they provide. Some cover all or part of tuition and fees, others also cover books, and still others provide stipends for living expenses. What expenses should these scholarships cover? Should universities award more substantial scholarships to fewer scholars rather than varied amounts to a number of scholars? Would this approach increase overall outcomes in terms of successful completion of the rehabilitation counseling program and in obtaining employment that qualifies to repay the students' service obligations?

1.12. What do you anticipate will be the cost to fund tuition and stipends for a scholar in the next 5 to 10 years? Based on this cost, approximately how many scholars could be adequately served with a $750,000 grant (i.e., $150,000 each year for five years)?

II. Dissemination

The Department funds the National Clearinghouse of Rehabilitation Training Materials (NCRTM) at $300,000 annually. The NCRTM is a central repository for information and training materials to assist in the pre-service and in-service training of rehabilitation professionals. The NCRTM also responds to inquiries from researchers, Federal and State agencies, and individuals with disabilities and their families. The NCRTM reported 66,607 visits to its Web site in FY 2011, and 6,558 documents downloaded. The NCRTM also arranges for webinars at the request of RSA.

The Department is seeking information about the need for and use of a centralized repository of rehabilitation training materials, as well as information on how a national clearinghouse can be used to benefit rehabilitation professionals, particularly those working in State VR agencies and in community rehabilitation programs. The following questions are designed to support respondents in thinking about what technology and information is necessary for a state-of-the-art centralized repository of rehabilitation training materials:

2.1. Should RSA continue to fund a centralized repository of rehabilitation training materials?

2.2. How have you used materials available on the NCRTM Web site? Did you customize these materials for your own use? Did these materials support your work as a grantee, as a professional in the field of rehabilitation counseling, as a student, etc.?

2.3. If you have not used materials available on the NCRTM Web site, why not? Were you unaware of the Web site? Did you access the Web site and find the materials and information there limited, unhelpful, or of low quality?

2.4. What rehabilitation training materials currently missing from the NCRTM site would be beneficial to grantees, students, counselors, employers, job seekers, etc.?

2.5. How can the dissemination of rehabilitation training materials be improved?

2.6. What new functions could a national clearinghouse provide to meet your needs?

2.7. What new technologies might be used to disseminate information to rehabilitation professionals to keep their skills current?

III. Technical Assistance and Continuing Education

The Department currently funds 10 regional TACE Centers, each at just under $800,000 annually, to provide TA and CE to State VR agencies and their partners. The Department also supports a National Technical Assistance Project to provide TA on topics of national scope through a variety of methods, including conferences and webinars. This one-time, two-year grant was awarded in FY 2010 for $800,000. The following questions are designed to obtain information and feedback that reflects future delivery and coordination of TA and CE that will directly result in high-quality employment outcomes for individuals with disabilities.

3.1. How do providers and recipients of TA and CE assess TA and CE needs, and how can the needs assessment process be improved?

3.2. What are the most important TA needs for State VR agencies and other grantees, and what are the most effective and efficient ways for TA to be delivered?

3.3. What are the most critical CE needs of State VR agencies and other grantees, and what are the effective and efficient ways to provide CE?

3.4. Are current Federal funding levels for addressing TA needs and delivering CE adequate?

3.5. What is the best structure for delivering TA and CE (e.g., a system comprised of centers providing TA on topical areas such as program management or quality assurance, a system of regional TA Centers, or a combination of these or other structures)?

3.6. How can national collaboration among all TA and CE providers be improved so that the resources devoted to TA and CE are efficiently and effectively used?

3.7. How should disability and employment research and evaluation on promising and evidenced-based practices be incorporated into TA and CE?

3.8. What outcomes should we expect from a TA and CE delivery system, and what performance measures can effectively measure these outcomes?

IV. Use of Section 21 Set-Aside

Research indicates that individuals with disabilities who are members of minority groups are less likely to access VR services and achieve employment outcomes at lower rates than other individuals with disabilities. Funds made available under section 21 of the Rehabilitation Act are intended to improve services and outcomes for individuals with disabilities who are members of minority groups. The statute requires that the Department set aside for this purpose one percent of all funds appropriated for programs authorized under each of Titles II, III, VI, and VII. In fiscal year 2012 RSA set aside approximately $2.1 million for grants funded under section 21.

Currently the Department provides section 21 funds to four minority institutions of higher education to develop rehabilitation training programs for individuals wishing to enter the field of rehabilitation counseling. In addition, the Department funds five grants to provide outreach, capacity building, TA, and training to minority entities that are seeking grants under the Rehabilitation Act, including grant-writing workshops and training on disability legislation. Under the Act, the term minority entity means an entity that is a historically black college or university, a Hispanic-serving institution of higher education, an American Indian Tribal college or university, or another institution of higher education whose minority student enrollment is at least 50 percent. Respondents may use the questions below to guide their input on how to use the section 21 funds most effectively to improve services and outcomes for individuals with disabilities who are members of minority groups.

4.1. Is the current use of section 21 funds effective in improving services to and outcomes for individuals with disabilities who are members of minority groups, and if so, what specific activities or strategies currently funded by section 21 have been most effective?

4.2. What activities and strategies currently funded under section 21 are least effective in improving services to and outcomes for individuals with disabilities who are members of minority groups?

4.3. In what new ways should the Department use section 21 funds to improve outcomes for individuals with disabilities being served by State VR agencies who are members of minority groups? Are there new or emerging TA or training needs that should be addressed?

Accessible Format: Individuals with disabilities can obtain this document in an accessible format (e.g., braille, large print, audiotape, or compact disc) on request to the program contact person listed under FOR FURTHER INFORMATION CONTACT.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 6771.

Dated: November 5, 2012.
Michael Yudin,
Acting Assistant Secretary for Special Education and Rehabilitative Services.

[FR Doc. 2012-27332 Filed 11-7-12; 8:45 am]

BILLING CODE 4000-01-P